DEPARTMENT OF THE TREASURY

Office of Foreign Assets Control

Publication of Iran General License D

AGENCY: Office of Foreign Assets Control, Treasury.

ACTION: Notice, publication of general license.

SUMMARY: The Department of the Treasury's Office of Foreign Assets Control (“OFAC”) is publishing General License D issued under the Iranian transactions sanctions program on May 30, 2013. General License D authorizes the exportation and reexportation to persons in Iran of certain services, software, and hardware incident to the exchange of personal communications, subject to certain limitations.

DATES: Effective Date: May 30, 2013.

FOR FURTHER INFORMATION CONTACT: Assistant Director for Sanctions Compliance & Evaluation, tel.: 202-622-2490, Assistant Director for Licensing, tel.: 202-622-2480, Assistant Director for Policy, tel.: 202-622-2746, Assistant Director for Regulatory Affairs, tel.: 202-622-4855, Office of Foreign Assets Control, or Chief Counsel (Foreign Assets Control), tel.: 202-622-2410, Office of the General Counsel, Department of the Treasury, Washington, DC 20220 (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202/622-0077.

Background

On May 30, 2013, OFAC issued General License D under the Iranian transactions sanctions program. At the time of its issuance on May 30, 2013, OFAC made General License D available on the OFAC Web site (www.treasury.gov/ofac). With this notice, OFAC is publishing General License D in the Federal Register.

GENERAL LICENSE D

General License With Respect to the Exportation and Reexportation of Certain Services, Software, and Hardware Incident to the Exchange of Personal Communications

(a) Effective May 30, 2013, to the extent that such transactions are not exempt from the prohibitions of the Iranian Transactions and Sanctions Regulations, 31 CFR part 560 (“ITSR”), and subject to the restrictions set forth in paragraph (b), the following transactions are authorized:

(1) The exportation or reexportation, directly or indirectly, from the United States or by U.S. persons, wherever located, to persons in Iran of fee-based services incident to the exchange of personal communications over the Internet, such as instant messaging, chat and email, social networking, sharing of photos and movies, web browsing, and blogging.

(2) The exportation or reexportation, directly or indirectly, from the United States or by U.S. persons, wherever located, to persons in Iran of fee-based software subject to the Export Administration Regulations, 15 CFR parts 730 through 774 (the “EAR”), that is necessary to enable the services described in paragraph (a)(1), provided that such software is designated as EAR99 under the EAR, or is classified by the U.S. Department of Commerce on the Commerce Control List, 15 CFR part 774, supplement No. 1 (“CCL”) under export control classification number (“ECCN”) 5D992.c.

NOTE TO PARAGRAPHS (a)(1) AND (a)(2): See 31 CFR § 560.540 for provisions relating to the exportation to persons in Iran of publicly available, no-cost services incident to the exchange of personal communications over the Internet and publicly available, no-cost software necessary to enable such services.

(3) To the extent not authorized by paragraph (a)(2), the exportation or reexportation, directly or indirectly, from the United States or by U.S. persons, wherever located, to persons in Iran of certain software and hardware that are subject to the EAR and incident to personal communications, as well as related services, as specified in the Annex to this general license.

(4) The exportation or reexportation, directly or indirectly, from the United States or by U.S. persons, wherever located, to persons in Iran of consumer-grade Internet connectivity services and the provision, sale, or leasing of capacity on telecommunications transmission facilities (such as satellite or terrestrial network connectivity) incident to personal communications.

Note to Paragraph (a): The authorization set forth in paragraph (a) of this general license extends to entities owned or controlled by a United States person and established or maintained outside the United States subject to the conditions set forth in 31 CFR § 560.556. Nothing in this general license relieves the exporter from compliance with the export license application requirements of another Federal agency.

(b) This general license does not authorize:

(1) The exportation or reexportation, directly or indirectly, of the services, software, or hardware specified in paragraph (a) of this general license with knowledge or reason to know that such services, software, or hardware are intended for the Government of Iran.

(2) The exportation or reexportation, directly or indirectly, of the services, software, and hardware specified in paragraph (a) of this general license to any person whose property and interests in property are blocked pursuant to any part of 31 CFR chapter V.

(3) The exportation or reexportation, directly or indirectly, of commercial-grade Internet connectivity services or telecommunications transmission facilities (such as dedicated satellite links or dedicated lines that include quality of service guarantees).

(4) The exportation or reexportation, directly or indirectly, of web-hosting services that are for purposes other than personal communications (e.g., web-hosting services for commercial endeavors) or of domain name registration services.

(c) Effective May 30, 2013, transfers of funds from Iran or for or on behalf of a person in Iran in furtherance of an underlying transaction authorized by paragraph (a) of this general license may be processed by U.S. depository institutions and U.S. registered brokers or dealers in securities so long as they are consistent with 31 CFR § 560.516.¹

¹ The authorization set forth in paragraph (c) of this general license does not authorize any transaction prohibited by any part of chapter V of 31 CFR other than part 560. Accordingly, the transfer of funds may not be by, to, or through any of the following: (1) A person whose property and interests in property are blocked pursuant to the Weapons of Mass Destruction Proliferators Sanctions Regulations, 31 CFR part 544, or the Global Terrorism Sanctions Regulations, 31 CFR part 594; or (2) a person whose property and interests in property are blocked pursuant to any other part of 31 CFR chapter V, or any Executive order, except an Iranian financial institution whose property and interests in property are blocked solely pursuant to 31 CFR part 560.

(d) Specific licenses may be issued on a case-by-case basis for the exportation and reexportation of services, software, and hardware incident to personal communications not specified in paragraph (a) or the Annex to this general license.

Issued: May 30, 2013.

Annex—Services, Software, and Hardware Incident to Personal Communications Authorized for Exportation and Reexportation to Iran by Paragraph (a) of ITSR General License D
1.) | Mobile phones (including but not limited to smartphones), Personal Digital Assistants (PDAs), Subscriber Identity Module (SIM) cards designated EAR99 or classified on the CCL under ECCN 5A992.c; drivers and connectivity software for such hardware designated EAR99 or classified under ECCN 5D992.c; and services necessary for the operation of such hardware and software.
2.) | Satellite phones and Broadband Global Area Network (BGAN) hardware designated EAR99 or classified under ECCN 5A992.c; demand drivers and connectivity software for such hardware designated EAR99 or classified under ECCN 5D992.c; and services necessary for the operation of such hardware and software.
3.) | Modems, network interface cards, radio equipment (including antennaes), routers, switches, and WiFi access points, designed for 50 or fewer concurrent users, designated EAR99 or classified under ECCNs 5A992.c, 5A991.b.2, or 5A991.b.4; drivers, communications, and connectivity software for such hardware designated EAR99 or classified under ECCN 5D992.c; and services necessary for the operation of such hardware and software.
4.) | Residential consumer satellite receive-only terminals, receiver equipment (including but not limited to antennaes, receivers, set-top boxes and video decoders) designated EAR99 or classified under ECCNs 5A992.c, 5A991.b.2 or 5A991.b.4; drivers, communications, and connectivity software for such hardware designated EAR99 or classified under ECCN 5D992.c; and services necessary for the operation of such hardware and software.
5.) | Laptops, tablets, and personal computing devices, disk drives, data storage devices, computer peripherals, keyboards, and mice designated EAR99 or classified on the CCL under ECCNs 5A992.c, 5A991.b.2, 5A991.b.4 or 4A994.b; computer operating systems, and software required for effective consumer use of such hardware, including software updates and patches, designated EAR99 or classified under ECCN 5D992.c; and services necessary for the operation of such hardware and software.
6.) | Anti-virus and anti-malware software designated EAR99 or classified under ECCN 5D992.c, and services necessary for the operation of such software.
7.) | Anti-tracking software designated EAR99 or classified under ECCN 5D992.c, and services necessary for the operation of such software.
8.) | Mobile operating systems, online app stores, and related software designated EAR99 or classified under ECCN 5D992.c, and services necessary for the operation of such software.
9.) | Anti-censorship tools and related software designated EAR99 or classified under ECCN 5D992.c, and services necessary for the operation of such software.
10.) | Virtual Private Networks, proxy tools, and fee-based personal communications tools including voice, text, video, voice-over-IP telephony, video chat, and successor technologies, and communications and connectivity software required for effective consumer use designated EAR99 or classified under ECCN 5D992.c, and services necessary for the operation of such software.
11.) | Secure Sockets Layers (SSLs) designated EAR99 or classified under ECCN 5D992.c, and services necessary for the operation of such software.

Dated: July 10, 2013.
Adam J. Szubin,
Director, Office of Foreign Assets Control.

[FR Doc. 2013-17359 Filed 7-18-13; 8:45 am]

BILLING CODE 4810-AL-P